DEPARTMENT OF THE INTERIOR

National Park Service

[NPS-WASO-NAGPRA-NPS0032429; PPWOCRADN0-PCU00RP14.R50000]

Notice of Inventory Completion: U.S. Department of the Interior, Bureau of Indian Affairs, Washington, DC and University of Montana, Missoula, MT

AGENCY: National Park Service, Interior.

ACTION: Notice.

SUMMARY: The U.S. Department of the Interior, Bureau of Indian Affairs (BIA), assisted by the University of Montana, has completed an inventory of human remains in consultation with the appropriate Indian Tribes or Native Hawaiian organizations, and has determined that there is a cultural affiliation between the human remains and present-day Indian Tribes or Native Hawaiian organizations. Lineal descendants or representatives of any Indian Tribe or Native Hawaiian organization not identified in this notice who wish to request transfer of control of these human remains should submit a written request to the BIA through the University of Montana. If no additional requestors come forward, transfer of control of the human remains to the lineal descendants, Indian Tribes, or Native Hawaiian organizations stated in this notice may proceed.

DATES: Lineal descendants or representatives of any Indian Tribe or Native Hawaiian organization not identified in this notice who wish to request transfer of control of these human remains should submit a written request with information in support of the request to the BIA through the University of Montana at the address in this notice by September 16, 2021.

FOR FURTHER INFORMATION CONTACT: Dr. Kelly Dixon, University of Montana, Missoula, MT 59812, telephone (406) 243-2693, email kelly.dixon@mso.umt.edu.

SUPPLEMENTARY INFORMATION: Notice is here given in accordance with the Native American Graves Protection and Repatriation Act (NAGPRA), 25 U.S.C. 3003, of the completion of an inventory of human remains under the control of the U.S. Department of the Interior, Bureau of Indian Affairs, Washington, DC and in the physical custody of the University of Montana, Missoula, MT. The human remains were removed from the Crow Reservation, Big Horn County, MT.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made on behalf of the BIA by the University of Montana professional staff in consultation with representatives of the Crow Tribe of Montana.

History and Description of the Remains

Around 1946, human remains representing, at minimum, four individuals were removed from a “battlefield in Crow Country” in Big Horn County, MT, by Albert H. Sletton, who donated them to the University of Montana. The human remains belong to four adult males. Two individuals are represented by mandibles (UMACF #I6916 and #I16918), a third individual is represented by a skull (cranium and mandible; UMACF #I6919), and a fourth individual is represented by a partial cranium showing sharp force perimortem trauma (UMACF #I6916). No known individuals were identified. No associated funerary objects are present.

The area of Big Horn County and the Crow Reservation includes several battlefields—including the Battle of the Little Big Horn and Rosebud Battlefield—where human remains exist.

Determinations Made by the U.S. Department of the Interior, Bureau of Indian Affairs and University of Montana

Officials of the U.S. Department of the Interior, Bureau of Indian Affairs and the University of Montana have determined that:

• Pursuant to 25 U.S.C. 3001(9), the human remains described in this notice represent the physical remains of four individuals of Native American ancestry.

• Pursuant to 25 U.S.C. 3001(2), there is a relationship of shared group identity that can be reasonably traced between the Native American human remains and the Crow Tribe of Montana.

Additional Requestors and Disposition

Lineal descendants or representatives of any Indian Tribe not identified in this notice who wish to request transfer of control of these human remains should submit a written request with information in support of the request to Dr. Kelly Dixon, University of Montana, Missoula, MT 59812, telephone (406) 243-2693, email kelly.dixon@mso.umt.edu, by September 16, 2021. After that date, if no additional requestors have come forward, transfer of control of the human remains to the Crow Tribe of Montana may proceed.

The U.S. Department of the Interior, Bureau of Indian Affairs, assisted by the University of Montana, is responsible for notifying the Crow Tribe of Montana that this notice has been published.

Dated: August 4, 2021.
Melanie O'Brien,
Manager, National NAGPRA Program.

[FR Doc. 2021-17565 Filed 8-16-21; 8:45 am]

BILLING CODE 4312-52-P